DEPARTMENT OF THE INTERIOR

Fish and Wildlife Service

[FWS-R1-ES-2017-N139; FXES11130100000C4-178-FF01E00000]

Endangered and Threatened Wildlife and Plants; Initiation of 5-Year Status Reviews for 18 Species in Hawaii, Oregon, Washington, Idaho, and Canada

AGENCY: Fish and Wildlife Service, Interior.

ACTION: Notice of initiation of reviews; request for information.

SUMMARY: We, the U.S. Fish and Wildlife Service (Service), are initiating 5-year status reviews for 18 species in Hawaii, Oregon, Washington, Idaho, and Canada under the Endangered Species Act of 1973, as amended (Act). A 5-year status review is based on the best scientific and commercial data available at the time of the review; therefore, we are requesting submission of any new information on these species that has become available since the last review.

DATES: To ensure consideration in our reviews, we are requesting submission of new information no later than March 23, 2018. However, we will continue to accept new information about any listed species at any time.

ADDRESSES: Submit information on any of the 12 species in Hawaii (see table under What Species Are Under Review?) via U.S. mail to: Field Supervisor, Attention: 5-Year Review, U.S. Fish and Wildlife Service, Pacific Islands Fish and Wildlife Office, 300 Ala Moana Blvd., Room 3-122, Honolulu, HI 96850, or by email to pifwo_admin@fws.gov.

For the Columbia Basin pygmy rabbit, Castilleja levisecta, Hackelia venusta, and Sidalcea oregana var. calva, submit information via U.S. mail to: Field Supervisor, Attention: 5-Year Review, U.S. Fish and Wildlife Service, Washington Fish and Wildlife Office, 510 Desmond Dr. SE, Suite 102, Lacey, WA 98503, or by email to WFWO_LR@fws.gov.

For the Snake River physa snail, submit information via U.S. mail to: Field Supervisor; Attention: 5-Year Review; U.S. Fish and Wildlife Service; Idaho Fish and Wildlife Office; 1387 S. Vinnell Way, Suite 368, Boise, ID 83709, or by email to greg_burak@fws.gov.

For the white sturgeon, submit information via U.S. mail to: Field Supervisor; Attention: 5-Year Review, U.S. Fish and Wildlife Service, Northern Idaho Field Office, 11103 East Montgomery Dr., Spokane, WA 99206, or by email to jason_flory@fws.gov.

FOR FURTHER INFORMATION CONTACT: Gregory Koob, U.S. Fish and Wildlife Service, Pacific Islands Fish and Wildlife Office (see ADDRESSES), 808-792-9400 (for species in Hawaii); Tom McDowell, U.S. Fish and Wildlife Service, Washington Fish and Wildlife Office, 360-753-9440 (for Columbia Basin pygmy rabbit, Castilleja levisecta, Hackelia venusta, and Sidalcea oregana var. calva); or Tracy Melbihess, U.S. Fish and Wildlife Service, Idaho Fish and Wildlife Office, 208-378-5287 (for white sturgeon and Snake River physa snail). Individuals who are hearing impaired or speech impaired may call the Federal Relay Service at 800-877-8339 for TTY assistance.

SUPPLEMENTARY INFORMATION:

Why do we conduct 5-year reviews?

Under the Endangered Species Act of 1973, as amended (16 U.S.C. 1531 et seq.; Act), we maintain lists of endangered and threatened wildlife and plant speciess (referred to as the List) in the Code of Federal Regulations (CFR) at 50 CFR 17.11 (for wildlife) and 17.12 (for plants). Section 4(c)(2) of the Act requires us to review each listed species' status at least once every 5 years. For additional information about 5-year reviews, go to http://www.fws.gov/endangered/what-we-do/recovery-overview.html, scroll down to “Learn more about 5-Year Reviews,” and click on the “5-Year Reviews” link.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for these species.

What species are under review?

This notice announces our active review of the 18 species listed in the table below.

Species for Which the U.S. Fish and Wildlife Service Is Initiating 5-Year Status Reviews
Common name | Scientific name | Status | Where listed | Final listing rule (Federal Register citation and publication date)
Animals
Hawaiian hoary bat | Lasiurus cinereus semotus | Endangered | Wherever found (Hawaii) | 35 FR 16047, 10/13/1970.
Columbia Basin pygmy rabbit | Brachylagus idahoensis | Endangered | U.S.A. (Washington—Douglas, Grant, Lincoln, Adams, Benton Counties) | 68 FR 10388, 3/5/2003.
Hawaiian stilt | Himantopus mexicanus knudseni | Endangered | Wherever found (Hawaii) | 35 FR 16047, 10/13/1970.
White Sturgeon (Kootenai River DPS) | Acipenser transmontanus | Endangered | U.S.A. (Idaho, Montana), Canada (British Columbia) (Kootenai River system) | 59 FR 45989, 9/6/1994.
Snake River physa snail | Physa natricina | Endangered | Wherever found (Idaho) | 57 FR 59244, 12/14/1992.
Pacific Hawaiian damselfly | Megalagrion pacificum | Endangered | Wherever found (Hawaii) | 52 FR 21481, 6/5/1987
Blackburn's sphinx moth | Manduca blackburni | Endangered | Wherever found (Hawaii) | 65 FR 4770, 2/1/2000.
Plants
Kooloaula | Abutilon menziesii | Endangered | Wherever found (Hawaii) | 51 FR 34412, 9/26/1986.
Golden paintbrush | Castilleja levisecta | Threatened | Wherever found (Oregon, Washington, British Columbia) | 62 FR 31740, 6/11/1997.
Haha | Cyanea grimesiana ssp. grimesiana | Endangered | Wherever found (Hawaii) | 61 FR 53108, 10/10/1996.
Showy stickseed | Hackelia venusta | Endangered | Wherever found (Washington) | 67 FR 5515, 2/6/2002.
Awiwi | Kadua cookiana | Endangered | Wherever found (Hawaii) | 59 FR 9304, 2/25/1994.
Ihi'ihi | Marsilea villosa | Endangered | Wherever found (Hawaii) | 57 FR 27863, 6/22/1992.
Carter's panicgrass | Panicum fauriei var. carteri | Endangered | Wherever found (Hawaii) | 48 FR 46328, 10/12/1983.
Wahane | Pritchardia aylmer-robinsonii | Endangered | Wherever found (Hawaii) | 61 FR 41020, 8/7/1996.
No common name | Sanicula purpurea | Endangered | Wherever found (Hawaii) | 61 FR 53108, 10/10/1996.
No common name | Schiedea hookeri | Endangered | Wherever found (Hawaii) | 61 FR 53108, 10/10/1996.
Wenatchee Mountains checker-mallow | Sidalcea oregana var. calva | Endangered | Wherever found (Washington) | 64 FR 71680, 12/22/1999.

Request for New Information

To ensure that a 5-year review is complete and based on the best available scientific and commercial information, we request new information from all sources. See What Information Do We Consider in Our Review? for specific criteria. If you submit information, please support it with documentation such as maps, bibliographic references, methods used to gather and analyze the data, and/or copies of any pertinent publications, reports, or letters by knowledgeable sources.

If you wish to provide information for any species listed above, please submit your comments and materials to the appropriate contact in ADDRESSES.

Public Availability of Comments

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed and Active Reviews

A list of all completed and currently active 5-year reviews addressing species for which the Pacific Region of the Service has lead responsibility is available at http://www.fws.gov/pacific/ecoservices/endangered/recovery/5year.html.

Authority

This document is published under the authority of the Endangered Species Act of 1973, as amended (16 U.S.C. 1531 et seq.).

Dated: January 10, 2018.
Theresa E. Rabot,
Deputy Regional Director, U.S. Fish and Wildlife Service.

[FR Doc. 2018-00944 Filed 1-19-18; 8:45 am]

BILLING CODE 4333-15-P